DEPARTMENT OF HEALTH AND HUMAN SERVICES

HIT Policy and Standards Committees; Workgroup Application Database

AGENCY: Office of the National Coordinator for Health Information Technology, HHS.

ACTION: Notice of New ONC HIT FACA Workgroup Application Database.

The Office of the National Coordinator (ONC) has launched a new Health Information Technology Federal Advisory Committee Workgroup Application Database.

Name of Committees: HIT Standards Committee and HIT Policy Committee.

General Function of the Committees: The HITSC is charged to provide recommendations to the National Coordinator on standards, implementation specifications, and certification criteria for the electronic exchange and use of health information for purposes of adoption, consistent with the implementation of the Federal Health IT Strategic Plan, and in accordance with policies developed by the HIT Policy Committee. The HITPC is charged to provide recommendations to the National Coordinator on a policy framework for the development and adoption of a nationwide health information technology infrastructure that permits the electronic exchange and use of health information as is consistent with the Federal Health IT Strategic Plan and that includes recommendations on the areas in which standards, implementation specifications, and certification criteria are needed.

Contact Person: MacKenzie Robertson, Office of the National Coordinator, HHS, 355 E Street SW., Washington, DC 20201, 202-205-8089, Fax: 202-260-1276, email: mackenzie.robertson@hhs.gov.

Background: As part of ongoing efforts to recruit highly qualified workgroup members, ONC has developed an online database system to allow anyone with an interest in contributing and expertise in the numerous aspects of HIT to submit their information for future consideration for HIT FACA workgroup membership. Whenever a new workgroup is formed, or as current workgroups experience turnover, ONC will turn to this resource first to fill out each group's membership.

How to Apply: If you wish to be considered for future workgroups, please register on ONC's Workgroup Application Database, http://onc-faca.altaruminstitute.net/apply. Thank you for your interest in the HIT Policy and HIT Standards Committees. For more information on the Committees and workgroups, please visit the ONC FACA Web site, www.healthit.gov/faca.

Dated: October 10, 2012.
MacKenzie Robertson,
FACA Program Lead, Office of Policy and Planning, Office of the National Coordinator for Health Information Technology.

[FR Doc. 2012-27084 Filed 11-5-12; 8:45 am]

BILLING CODE 4150-45-P